DEPARTMENT OF THE INTERIOR

Fish and Wildlife Service

[FWS-R2-ES-2011-N108; 20124-1113-0000-C2]

Notice of Availability for Comment: Draft Recovery Plan, First Revision; Mexican Spotted Owl

AGENCY: Fish and Wildlife Service, Interior.

ACTION: Notice of availability; request for comment.

SUMMARY: We, the Fish and Wildlife Service, announce the availability of our draft recovery plan, first revision, for the Mexican Spotted Owl (Strix occidentalis lucida) under the Endangered Species Act of 1973, as amended (Act). This species occurs in the states of Arizona, Colorado, New Mexico, Texas, and Utah, south through the Sierra Madre Occidental and Sierra Madre Oriental in Mexico. We request review and comment on our plan from local, State, and Federal agencies; Tribes; and the public. We will also accept any new information on the status of the Mexican spotted owl throughout its range to assist in finalizing the revised recovery plan.

DATES: To ensure consideration, we must receive written comments on or before August 23, 2011. However, we will accept information about any species at any time.

ADDRESSES: If you wish to review the draft recovery plan, you may obtain a copy by visiting our Web site at http://endangered.fws.gov/recovery/index.html#plans. Alternatively, you may contact the Arizona Ecological Services Office, U.S. Fish and Wildlife Service, 2321 West Royal Palm Road, Phoenix, Arizona 85021-4951 (602) 242-0210, phone). If you wish to comment on the plan, you may submit your comments in writing by any one of the following methods:

• U.S. mail: Field Supervisor, at the above address;

• Hand-delivery: Arizona Ecological Services Office at the above address;

• Fax: (602) 242-2513; or

• E-mail: http://www.fws.gov/southwest/es/Arizona/ (type “Mexican spotted owl” in the document title search field).

For additional information about submitting comments, see the “Request for Public Comments” section below.

FOR FURTHER INFORMATION CONTACT: Steve Spangle, Field Supervisor, at the above address, phone number, or e-mail.

SUPPLEMENTARY INFORMATION:

Background

Recovery of endangered or threatened animals and plants to the point where they are again secure, self-sustaining members of their ecosystems is a primary goal of our endangered species program and the Act (16 U.S.C. 1531 et seq.). Recovery means improvement of the status of listed species to the point at which listing is no longer appropriate under the criteria set out in section 4(a)(1) of the Act. The Act requires the development of recovery plans for listed species, unless such a plan would not promote the conservation of a particular species.

Species' History

We listed the Mexican spotted owl as a threatened species under the Act on March 16, 1993 (58 FR 14248). We designated critical habitat on August 31, 2004 (69 FR 53182).

We originally completed and announced a recovery plan for the Mexican spotted owl on October 16, 1995. However, updates on status information and experience in implementing the original recovery plan led to our determination that revision is warranted.

The Mexican spotted owl species nests and roosts in forested areas exhibiting multilayered, uneven-aged tree structure, and in steep, rocky canyonlands. Forested habitats used by the owl vary throughout its range and by activity (nesting, roosting, foraging, dispersal/migration). However, the forest types believed most important to Mexican spotted owls are mixed conifer, pine-oak, and riparian habitats.

Threats to the owl's population in the United States have transitioned from commercial-based timber harvest at the time of listing, to the risk of stand-replacing wildfire. The revised recovery plan recommends protection of currently occupied home ranges, plus development of replacement nesting/roosting habitat over time. The plan recognizes the need to manage these forest landscapes to minimize the effects of large, stand-replacing wildfires, believed to be the greatest current threat to the species.

Recovery Plan Goals

The objective of an agency recovery plan is to provide a framework for the recovery of a species so that protection under the Act is no longer necessary. A recovery plan includes scientific information about the species and provides criteria and actions necessary for us to be able to reclassify the species to threatened status or remove it from the Federal List of Endangered and Threatened Wildlife and Plants (List). Recovery plans help guide our recovery efforts by describing actions we consider necessary for the species' conservation, and by estimating time and costs for implementing needed recovery measures. To achieve its goals, this draft recovery plan identifies the following objectives:

• Support the Mexican spotted owl throughout its range in perpetuity.

• Maintain habitat conditions necessary to provide roosting and nesting habitat for the Mexican spotted owl through time.

The draft revised recovery plan contains recovery criteria based on maintaining and increasing population numbers and habitat quality and quantity. The revised recovery plan focuses on protecting populations, managing threats, maintaining habitat, monitoring progress, and building partnerships to facilitate recovery.

As the subspecies meets recovery criteria, we will review the subspecies' status and consider removal from the List.

Request for Public Comments

Section 4(f) of the Act requires us to provide public notice and an opportunity for public review and comment during recovery plan development. It is also our policy to request peer review of recovery plans (July 1, 1994; 59 FR 34270). In an appendix to the approved recovery plan, we will summarize and respond to the issues raised by the public and peer reviewers. Substantive comments may or may not result in changes to the recovery plan; comments regarding recovery plan implementation will be forwarded as appropriate to Federal or other entities so that they can be taken into account during the course of implementing recovery actions. Responses to individual commenters will not be provided, but we will provide a summary of how we addressed substantive comments in an appendix to the approved recovery plan.

We invite written comments on the draft revised recovery plan. This plan has undergone significant revision since the original plan, incorporating the most recent scientific research specific to the Mexican spotted owl and input from the Recovery Team. In particular, we are interested in information regarding the current threats to the species and the costs associated with implementing the recommended recovery actions.

Before we approve the plan, we will consider all comments we receive by the date specified in DATES above. Methods of submitting comments are in the ADDRESSES section above.

Public Availability of Comments

Before including your address, phone number, e-mail address, or other personal identifying information in your comment, you should be aware that your entire comment—including your personal identifying information—may be made publicly available at any time. While you can ask us in your comment to withhold your personal identifying information from public review, we cannot guarantee that we will be able to do so.

Comments and materials we receive will be available, by appointment, for public inspection during normal business hours at our office (see ADDRESSES).

Authority

We developed our draft recovery plan under the authority of section 4(f) of the Act, 16 U.S.C. 1533(f). We publish this notice under section 4(f) Endangered Species Act of 1973, as amended (16 U.S.C. 1531 et seq.).

Dated: June 6, 2011.
Joy Nicholopoulos,
Acting Regional Director, Southwest Region.

[FR Doc. 2011-15975 Filed 6-23-11; 8:45 am]

BILLING CODE 4310-55-P